DEPARTMENT OF HEALTH AND HUMAN SERVICES

Centers for Disease Control and Prevention

Electronic Learning (E-Learning) Collaborative Resource Center for SV and IPV Prevention Practitioners

AGENCY: Centers for Disease Control and Prevention (CDC), Department of Health and Human Services (DHHS).

ACTION: Notice.

SUMMARY: The U.S. Centers for Disease Control and Prevention (CDC) is providing $536,733 in funds.

DATES: Effective date is June 9, 2017.

ADDRESSES: Agency Contacts: CDC encourages inquiries concerning this announcement.

For programmatic technical assistance, contact: Pamela Brown, Project Officer, Department of Health and Human Services, Centers for Disease Control and Prevention, 4770 Buford Highway NE., Mailstop F-64, Atlanta, GA 30341, Telephone: (770) 488-1345, Emailpbrown8@cdc.gov.

For financial, grants management, or budget assistance, contact: LaQuanda Lewis Grants Management Specialist, Department of Health and Human Services, CDC Procurement and Grants Office, 2920 Brandywine Road, MS K-70, Atlanta, GA 30341, Telephone (770) 488-2969, Email: LLewis@cdc.gov.

FOR FURTHER INFORMATION CONTACT: L.C. Browing (Office of Grants Services) (OGS), Technical Information Management Section (TIMS), ogstims@cdc.gov, 770-48-2700.

SUPPLEMENTARY INFORMATION:

Part I. Overview Information

This notice announces the Centers for Disease Control and Prevention's (CDC) intent to extend the funds to the California Coalition Against Sexual Assault with Rape Prevention and Education funds.

Federal Agency Name: Centers for Disease Control and Prevention (CDC), Department of Health and Human Services (DHHS).

Funding Opportunity Title: Electronic Learning (E-Learning) Collaborative Resource Center for SV and IPV Prevention Practitioners.

Announcement Type: Cooperative Agreement.

Agency Funding Opportunity Number: CDC-RFA-CE12-1204.

Catalog of Federal Domestic Assistance (CFDA) Number: 93.136 Injury Prevention and Control Research and State and Community Based Programs.

Dates: September 30, 2017 until January 30, 2019.

Executive Summary

The U.S. Centers for Disease Control and Prevention (CDC) is providing $536,733 in funding through the CE12-1204, Electronic Learning (E-Learning) Collaborative Resource Center for Sexual Violence (SV) and Intimate Partner Violence (IPV) Prevention Practitioners Cooperative Agreement to the California Coalition Against Sexual Assault to offer online training and convene an Electronic Learning Collaborative (ELC) to enhance the capacity and skills of local, state, and national SV and IPV practitioners to develop, implement and evaluate SV and IPV prevention efforts.

Part II. Full Text

Funding Opportunity Description

(a) Background

Since September 30, 2012, the California Coalition Against Sexual Assault (CALCASA), through its national on-line e-learning project PreventConnect, has provided training and technical assistance to CDC's Rape Prevention Education (RPE) and DELTA FOCUS grantees and the broader IPV and SV prevention practice fields. CALCASA has developed the technical infrastructure and staff expertise to support multiple web-based platforms (webinars, podcasts, on-line trainings, wiki, etc.) to serve a large audience and disseminate the best available research and practice knowledge for IPV and SV prevention. This work strengthens the capacity and skills of local, state and national violence prevention practitioners. The current project period ends on Sept. 29, 2017, however, the CDC-funded SV and IPV projects that PreventConnect supports (RPE and DELTA FOCUS) continue beyond this project period end. The additional funds and 16-months extension for the cooperative agreement, CE12-1204 (CALCASA/PreventConnect) is critical and essential for the successful implementation and completion of the CDC CE13-1302 (Delta Focus) and CDC CE-14-1401 (Rape Prevention and Education Program) projects. The funding will: assure that the targeted audiences for the e-learning project will not experience an interruption of expert TA and Training support prior to the end of the current RPE and DELTA FOCUS project periods and allow for future SV and IPV new FOA/project periods to be aligned with one another more effectively and be developed with complementary goals, objectives and deliverables.

To address IPV, CDC has funded, since 2002, the Domestic Violence Prevention Enhancements and Leadership through Alliances (DELTA) program, which seeks to build the capacity of state coalitions addressing IPV to support IPV primary prevention efforts. To address SV, CDC has funded, since 1995, the Rape Prevention and Education (RPE) program, to address risk and protective factors to prevent first time perpetration and victimization of SV. Both DELTA and RPE have similar goals, to build capacity for primary prevention; utilization of the Public Health Approach, Socioecological Model, and evidence informed strategies. From 2005 to 2012, a State Sexual Assault Coalition was funded to provide support for CDC funded SV and IPV prevention grantees and nationwide practitioners through innovative online technology communication channels. In cooperation with CDC, they were able to develop and facilitate ongoing discussions where SV and IPV prevention practitioners had the opportunity to network, share ideas, discuss successes and challenges, and learn from each other.

Building prevention system capacity at the state health department and state coalition levels are critical in maintaining an infrastructure that supports prevention efforts. The E-Learning Collaborative provides an interactive environment via training, education, and dialogue for two separate sets of prevention grantees to collectively come together and share, learn, network, and reach the goal of peer based learning.

(b) CDC Project Description

The purpose of this Funding Registry Notice (FRN) is to provide funds for 16 months, beginning with fiscal year (FY) 2017, to: Continue offering web-based training that enhances skills and capacity of CDC SV and IPV prevention grantees to prevent SV and IPV; convene an E-Learning Collaborative among CDC funded SV and IPV prevention grantees that enhances training received; and build a broader network of national, state, and local SV and IPV prevention practitioners, regardless of funding sources, using multiple media channels, including interactive web conferences, podcasts, interactive listserv, and social media to share, connect, and enhance their skills and capacity to prevent SV and IPV.

Core Activities

1. Develop and conduct 3-4 training web conferences annually, in collaboration with CDC that are interactive and have practical applications. Participants should be CDC funded SV and IPV prevention grantees and their partners, including state health departments, sexual assault coalitions and domestic violence coalitions. Training topics that meet the needs of SV and IPV grantees and are focused on improving primary prevention practices include but are not limited to:

• Using data and evidence to inform their prevention efforts,

• Working with stakeholders internal and external to their organizations to build prevention system capacity, and

• Implementing and evaluating prevention strategies that address risk and protective factors for SV and IPV.

2. Convene an E-Learning Collaborative for CDC funded SV and IPV prevention grantees and their partners, including state health departments, sexual assault coalitions and domestic violence coalitions. Peer based learning should be focused on topics that further support the skill-based training received through web conferences. Such topics may include:

• Individual and community level shared risk and protective factors,

• Indicators for evaluation that will promote prevention efforts and support building evidence based strategies,

• Building evaluation capacity at state and local levels,

• Building organizational capacity,

• Implementation of community change strategies or outer layer ecological approach strategies,

• Strategies related to social determinants of health.

These opportunities may include electronically convening sub-collaboratives or sub-groups by geographic location/region, resources, or by topical interests.

3. Develop and conduct 3-4 training web conferences annually, in collaboration with CDC, to address the needs of SV and IPV prevention practitioners at state, local and tribal agencies. Topics should be focused on SV and IPV primary prevention. Information provided to SV and IPV practitioners should be equally distributed between SV and IPV.

4. Develop and conduct podcasts that highlight SV and IPV primary prevention work in the field.

5. Develop and maintain an active email listserv where SV and IPV prevention practitioners can communicate and share about research, programs, practices and policies on SV and IPV primary prevention.

6. Use social media outlets to share, connect, and enhance SV and IPV primary prevention knowledge of research, programs, practices and policies.

7. Actively recruit new SV and IPV prevention practitioners amongst CDC funded SV and IPV grantees, local, state, national and tribal SV and IPV agencies and organizations, public health partners and those working in underserved communities, to engage in web conferences, podcasts, interactive email listserv and social media activities.

Evaluation Activities

1. Develop and implement an evaluation plan with goals and objectives for the following evaluation activities with details on how the data will be shared with CDC 60 days after each assessment is completed, and how adjustments based on evaluation results will be made to activities and inform program improvement.

• Conduct a yearly assessment that describes how the training web conferences impact SV and IPV prevention grantees and their partners' prevention practices and behaviors, and user satisfaction.

• Conduct a yearly assessment of the extent to how skill based web conference training and peer based learning (E-Learning Collaborative) increased SV and IPV prevention grantees' capacity building for evaluation and prevention implementation.

Recipient Activities—Administrative

1. Establish and maintain collaborative relationships with national, state, local and tribal agencies and organizations working to prevent SV and IPV and with other CDC funded resource centers and initiatives.

2. Ensure dedicated and adequate staffing such as a full-time program manager and web master and provide resumes for key personnel.

3. Participate in conference calls, at least monthly, with CDC program staff and participate in CDC SV and IPV grantee meetings.

4. Ensure that all new online content and resources meet Section 508 compliance guidelines.

Award Information

Eligibility Information

The California Coalition Against Sexual Assault (CALCASA), through its national on-line e-learning project Prevent Connect, has provided training and technical assistance to CDC's Rape Prevention Education (RPE) and DELTA FOCUS grantees and the broader IPV and SV prevention practice fields. Under the propose program extension, the recipient has been identified as the only and qualified institution to perform the required activities.

Required Registrations

Applicant must submit application package that includes the following: SF424 Mandatory Form, SF424A, Project Narrative, and detailed Budget Narrative. These forms are available on Grants.gov at https://www.grants.gov/web/grants/forms/sf-424-mandatory-family.html#sortby=1. The application package must be submitted via GrantSolutions under Manage Amendments following the below steps:

1. Log into GrantSolutions

2. From the “My Grants List” screen, click the link Management Amendments

3. Click “New”

4. Click Create Amendment

5. Click “Edit Amendment” link to being working on the amendment

6. Upload the requested documents

7. Verify Submission and submit Amendment

If the applicant encounters technical difficulties with GrantSolutions, the applicant should contact the helpdesk. You can reach the GrantSolutions Helpdesk at 1-866-577-0771 or by email at help@grantsolutions.gov. Submissions sent by email, fax, CD's or thumb drives of applications will not be accepted.

Request Application Package: April 28, 2017.

Application Package: June 28, 2017.

Submission Dates and Times: June 28, 2017 11:59 p.m. U.S. Eastern Standard Time.

Project Abstract Summary

The Project Abstract must contain a summary of the proposed activity suitable for dissemination to the public. It should be a self-contained description of the project and should contain a statement of objectives and methods to be employed. It should be informative to other persons working in the same or related fields and insofar as possible understandable to a technically literate lay reader. This abstract must not include any proprietary/confidential information.

Project Narrative

A Project Narrative must be submitted with the application forms. The narrative must be submitted in the following format:

• Maximum number of pages: 25. If your narrative exceeds the page limit, only the first pages, which are within the page limit, will be reviewed.

• Font size: 12 point unreduced, Times New Roman.

• Double spaced.

• Page margin size: One inch.

• Number all narrative pages; not to exceed the maximum number of pages.

The narrative should address activities to be conducted over the entire project period and must include the following items in the order listed:

Background, Understanding and Relevant Experience

1. Describe your organization's understanding of sexual violence and intimate partner violence as public health issues.

2. Describe your organization's understanding of the purpose and objectives of this cooperative agreement, including collaboration in all aspects of the agreement with CDC program staff and other relevant partner organizations.

3. Describe your organizations experience in: Convening and maintaining an Advisory Council with diverse SV and IPV prevention practitioner representation, convening an E-Learning Collaborative, collaboration with CDC funded SV and IPV prevention grantees, and providing opportunities and multiple media channels for SV and IPV prevention practitioners to network, share and connect with each other.

Work Plan

1. Include goals and Specific, Measurable, Achievable, Realistic, Time-Bound (SMART) objectives.

2. Provide a detailed 16 months' work plan with timeline and logic model that describes how you plan to achieve your project's goals of offering web-based training that enhances skills and capacity of CDC SV and IPV prevention grantees to prevent SV and IPV; convening an e-learning collaborative among CDC funded SV and IPV prevention grantees that enhances training received; and building a broader network of national, state, and local SV and IPV prevention practitioners, regardless of funding sources, using multiple media channels, including interactive web conferences, podcasts, interactive listserv, and social media to share, connect, and enhance their skills and capacity to prevent SV and IPV.

3. Provide a detailed plan on how SV and IPV practitioner needs will be assessed and applied to the 3-4 training web conferences.

4. Indicate within the 16 month plan, with timeline and logic model, how you plan to achieve the following activities:

(a) Convene and maintain an Advisory Council that informs the overarching vision, direction, and goals of this FOA's activities. Advisory membership should include but is not limited to representation from CDC; the recipient organization; other collaborative partners, and grantee/end users.

(b) Stay current on research, programs, practices, and policies related to the prevention of SV and IPV to support all required activities.

(c) Identify SV and IPV related materials on research, programs, practices and policies that have been translated for practical purposes and can be shared with CDC SV and IPV prevention grantees specifically and SV and IPV practitioners broadly to improve their prevention skills and practices.

(d) In collaboration with CDC, establish standards for choosing presenters and SV and IPV related materials on research, programs, practices, and policies.

(e) Develop and conduct 3-4 training web conferences annually, in collaboration with CDC that are interactive and have practical applications. Participants should be CDC funded SV and IPV prevention grantees and their partners, including state health departments, sexual assault coalitions and domestic violence coalitions. Training topics that meet the needs of SV and IPV grantees and are focused on improving primary prevention practices include but are not limited to:

(f) Using data and evidence to inform their prevention efforts,

(g) Working with stakeholders internal and external to their organizations to build prevention system capacity, and

(h) Implementing and evaluating prevention strategies that address risk and protective factors for SV and IPV.

(i) Convene an E-Learning Collaborative for CDC funded SV and IPV prevention grantees and their partners, including state health departments, sexual assault coalitions and domestic violence coalitions. Peer based learning should be focused on topics that further support the skill-based training received through web conferences. Such topics may include:

(j) Individual and community level shared risk and protective factors,

(k) Indicators for evaluation that will promote prevention efforts and support building evidence based strategies,

(l) Building evaluation capacity at state and local levels,

(m) Building organizational capacity,

(n) Implementation of community change strategies or outer layer ecological approach strategies,

(o) Strategies related to social determinants of health.

These opportunities may include electronically convening sub-collaboratives or sub-groups by geographic location/region, resources, or by topical interests.

(a) Foster peer based learning through online interactions and exchanges of ideas/information or posts by designated staff or approved facilitators, key stakeholders or experts during the first two years of the E-Learning Collaborative.

(b) Develop and conduct 3-4 training web conferences annually, in collaboration with CDC, to address the needs of SV and IPV prevention practitioners at state, local and tribal agencies. Topics should be focused on SV and IPV primary prevention. Information provided to SV and IPV practitioners should be equally distributed between SV and IPV.

(c) Develop and conduct podcasts that highlight SV and IPV primary prevention work in the field.

(d) Develop and maintain an active email listserv where SV and IPV prevention practitioners can communicate and share about research, programs, practices and policies on SV and IPV primary prevention.

(e) Use social media outlets to share, connect, and enhance SV and IPV primary prevention knowledge of research, programs, practices and policies.

(f) Actively recruit new SV and IPV prevention practitioners amongst CDC funded SV and IPV grantees, local, state, national and tribal SV and IPV agencies and organizations, public health partners and those working in underserved communities, to engage in web conferences, podcasts, interactive email listserv and social media activities.

(g) Establish and maintain collaborative relationships with national, state, local and tribal agencies and organizations working to prevent SV and IPV and with other CDC funded resource centers and initiatives.

(h) Ensure dedicated and adequate staffing such as a full-time program manager and web master and provide resumes for key personnel.

(i) Participate in conference calls, at least monthly, with CDC program staff and participate in CDC SV and IPV grantee meetings.

(j) Ensure that all new online content and resources meet Section 508 compliance guidelines. For details and resources on Section 508 compliance, see Attachment III.

5. Provide a detailed evaluation plan with goals and objectives for the following evaluation activities with details on how the data will be shared with CDC 60 days after each assessment is completed, and how adjustments based on evaluation results will be made to activities and inform program improvement.

For CDC SV and IPV prevention grantees:

• Conduct a yearly assessment that describes how the training web conferences impact SV and IPV prevention grantees and their partners' prevention practices and behaviors, and user satisfaction.

• Conduct a yearly assessment of the extent to how skill based web conference training and peer based learning (E-Learning Collaborative) increased SV and IPV prevention grantees' capacity building for evaluation and prevention implementation.

For SV and IPV practitioners:

• Conduct an assessment that describes how the training web conferences impact SV and IPV practitioner's prevention practices and behaviors, and user satisfaction.

• An assessment to determine the number and diversity (e.g., type of organization, population served, and location) of nationwide SV and IPV practitioner participants represented on the web conferences, podcasts, interactive listserv and/or social media and identify who is missing.

Collaboration and Partnerships

(a) Include original letters of support from CDC funded SV and IPV prevention grantees, and other appropriate organizations, individuals, institutions, academic institutions, public health departments, etc. needed to carry out proposed activities and the extent to which such letters clearly indicate the author's commitment to participate as described in the plan.

(b) Describe your organizations past collaborations and partnerships associated with sexual violence and intimate partner violence. Highlight goals and activities as well as successes and challenges.

(c) Describe your organization's commitment to collaborate with CDC in; the development of the E-Learning Collaborative Advisory Council; identifying the vision, direction and goals of the E-Learning Collaborative for SV and IPV prevention grantees; and designing web conferences that meet the needs of SV and IPV prevention grantees and other SV and IPV prevention practitioners.

(d) Describe your organization's commitment to collaborate with other funded partners and national, state, local and tribal agencies and organizations.

(e) Describe your organization's commitment to collaborate with CDC funded SV and IPV prevention grantees to be in compliance with the terms of the cooperative agreement and to accomplish all identified project activities.

Staffing Plan and Capacity

(a) Describe your organization's proposed staffing plan in support of this project. It is expected that funds available under this FOA are sufficient for staffing levels including time and effort for a full-time manager and experienced staff.

(b) Describe the qualifications and experience of proposed staff for this project and provide resumes for manager and other key staff.

(c) Demonstrate your organization has adequate resources, facilities, experience (both technical and administrative), and access to SV and IPV prevention grantees and other relevant partners to meet the goals and objectives of this FOA. This should include documentation of professional personnel involved are qualified and have prior successful experience and achievements related to the proposed activities.

(d) The application should include a description of your organization's infrastructure to support the requirements of this FOA as well as the quality and sufficiency of the proposed staffing of the project. Provide an organizational chart as an attachment.

Measures of Effectiveness

(a) Provide measures of effectiveness related to proposed project goals and objectives.

Budget. The budget and budget justification will be included as a separate attachment, not to be counted towards the page limit.

(a) Provide a detailed budget and line item justification for all operating and staffing expenses that are consistent with proposed program objectives and activities.

(b) Include budget for key project staff to attend the annual SV and IPV prevention grantee meetings.

(c) Specify any in-kind support for recipient activities.

(d) If requesting indirect costs in the budget, a copy of the most current active indirect cost rate agreement is required.

Additional information may be included in the application appendices. The appendices will not be counted toward the narrative page limit. This additional information includes:

• Curricula Vitae

• Job Descriptions

• Resumes

• Organizational Charts

• Letters of Support, etc.

Additional information submitted should be uploaded in a PDF file format, and should be named appropriately (i.e., Curriculum vitae, Letters of Support, Indirect Cost Rate Agreement, etc.). No more than eight should be uploaded per application.

Additional requirements for additional documentation with the application are listed in Section VII. Award Administration Information, subsection entitled “Administrative and National Policy Requirements.”

Funding Restrictions

Restrictions, which must be taken into account while writing the budget, are as follows:

• Recipients may not use funds for research.

• Recipients may not use funds for clinical care.

• Recipients may only expend funds for reasonable program purposes, including personnel, travel, supplies, and services, such as contractual.

• Awardees may not generally use HHS/CDC/ATSDR funding for the purchase of furniture or equipment. Any such proposed spending must be identified in the budget.

• The direct and primary recipient in a cooperative agreement program must perform a substantial role in carrying out project objectives and not merely serve as a conduit for an award to another party or provider who is ineligible.

• Reimbursement of pre-award costs is not allowed.

• Funding restrictions, which must be taken into account while writing your budget are as follows: cooperative agreement funds for this project cannot be used for construction, renovation, the lease of passenger vehicles, the development of major software application, or supplanting current applicant expenditures.

Review and Selection Process

A technical review will be conducted by the CDC Program Office. The technical review will cover technical and cost matters. The initial application received objective review to ensure recipient complies with all the activities required. Recipient was selected thru a competitive process during the initial FOA award.

Central Contractor Registration and Universal Identifier Requirements

All applicant organizations must obtain a DUN and Bradstreet (D&B) Data Universal Numbering System (DUNS) number as the Universal Identifier when applying for Federal grants or cooperative agreements. The DUNS number is a nine-digit number assigned by Dun and Bradstreet Information Services. An Authorized Organization Representative (AOR) should be consulted to determine the appropriate number. If the organization does not have a DUNS number, an AOR should complete the US D&B D-U-N-S Number Request Form or contact Dun and Bradstreet by telephone directly at 1-866-705-5711 (toll-free) to obtain one. A DUNS number will be provided immediately by telephone at no charge. Note this is an organizational number. Individual Program Directors/Principal Investigators do not need to register for a DUNS number.

Additionally, all applicant organizations must register in the Central Contractor Registry (CCR) and maintain the registration with current information at all times during which it has an application under consideration for funding by CDC and, if an award is made, until a final financial report is submitted or the final payment is received, whichever is later. CCR is the primary registrant database for the Federal government and is the repository into which an entity must provide information required for the conduct of business as a recipient. Additional information about registration procedures may be found at the CCR internet site at www.ccr.gov.

If an award is granted, the grantee organization must notify potential sub-recipients that no organization may receive a sub award under the grant unless the organization has provided its DUNS number to the grantee organization.

Dated: May 18, 2017.
Terrance Perry,
Director, Office of Grants Services, Centers for Disease Control and Prevention.

[FR Doc. 2017-11941 Filed 6-8-17; 8:45 am]

BILLING CODE 4163-18-P